DEPARTMENT OF THE INTERIOR

National Park Service

[NPS-WASO-NRNHL-DTS#-33035; PPWOCRADI0, PCU00RP14.R50000]

National Register of Historic Places; Notification of Pending Nominations and Related Actions

AGENCY: National Park Service, Interior.

ACTION: Notice.

SUMMARY: The National Park Service is soliciting electronic comments on the significance of properties nominated before November 13, 2021, for listing or related actions in the National Register of Historic Places.

DATES: Comments should be submitted electronically by December 8, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 13, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

FLORIDA

Santa Rosa County

Fidelis School, 13786 FL 87, Jay vicinity, SG100007241

LOUISIANA

Orleans Parish

Touro-Shakspeare Home, 2621 General Meyer Ave., New Orleans, SG100007235

MAINE

Hancock County

Moonspring Hermitage, 532 Morgan Bay Rd., Surry, SG100007256

York County

Kezar Falls Circulating Library, (Maine Public Libraries MPS), 2 Wadleigh St., Parsonsfield, MP100007254

Rendezvous Point Burying Ground, South side of Ferry Rd., between Meadow and Lewis Lns., Saco, SG100007255

MASSACHUSETTS

Worcester County

Worcester County Courthouse, 2 Main St., Worcester, SG100007236

NEW MEXICO

Bernalillo County

Heights Community Center, 823 Buena Vista Ave. SE, Albuquerque, SG100007238

Barelas Community Center, (New Deal in New Mexico MPS), 801 Barelas Rd. SW, Albuquerque, MP100007239

NORTH CAROLINA

Alleghany County

Downtown Sparta Historic District, First blks. of North and South Main, and East and West Whitehead Sts., Sparta, SG100007244

Avery County

Guy, Edwin Cochran, House, 320 Wanteska St., Newland, SG100007245

Buncombe County

High Top Colony Historic District, 143-225 High Top Colony, 14-42 Hoot Owl, and 10-21 Grey Eagle Rd., Black Mountain vicinity, SG100007246

Cabarrus County

Norcott Mill-Cannon Mills Company Plant No. 10, 580, 594, 598 Cabarrus Ave. West; 569-581 Flora Ave. NW, Concord, SG100007248

Iredell County

Norwood School, 349 Troutman Farm Rd., Statesville vicinity, SG100007249

Ramsey Farm, 1853 Norwood Rd., Statesville, SG100007250

Orange County

Neville, Jeter and Ethel, House, 107 Cobb St., Carrboro, SG100007247

A request for removal has been made for the following resource:

NORTH DAKOTA

McLean County

Former McLean County Courthouse, (North Dakota County Courthouses TR), Main St., Washburn, OT85002987

Additional documentation has been received for the following resources:

NORTH CAROLINA

Gaston County

Dallas Historic District (Additional Documentation), Bounded by Holland, Main, Gaston and Trade Sts., Dallas, AD73001344

SOUTH DAKOTA

Stanley County

Fort Pierre Chouteau Site (Additional Documentation), North of Fort Pierre, Fort Pierre vicinity, AD76001756

Authority: Section 60.13 of 36 CFR part 60.

Dated: November 13, 2021.
Sherry A. Frear,
Chief, National Register of Historic Places/National Historic Landmarks Program.

[FR Doc. 2021-25513 Filed 11-22-21; 8:45 am]

BILLING CODE 4312-52-P